FEDERAL COMMUNICATIONS COMMISSION

47 CFR Part 73

[MB Docket No. 02-277, and MM Docket Nos. 01-235, 01-317, and 00-244, FCC 03-127]

2002 Biennial Review of Broadcast Ownership Rules, Cross-Ownership of Broadcast Stations and Newspapers, Multiple Ownership of Radio Broadcast Stations in Local Markets, and Definition of Radio Markets

AGENCY: Federal Communications Commission.

ACTION: Final rule, announcement of effective date.

SUMMARY: This document confirms that modifications to §§ 73.3555 and 73.3613 of the Commission's rules, adopted in the Commission's biennial review of its broadcast ownership rules, are effective on September 4, 2003.

DATES: Modifications to §§ 73.3613 and 73.3555, published at 68 FR 46285, August 5, 2003, are effective on September 4, 2003.

FOR FURTHER INFORMATION CONTACT: Rita McDonald, Industry Analysis Division, 202-418-2330.

SUPPLEMENTARY INFORMATION: The Federal Communications Commission, at 68 FR 45285, August 5, 2003, published a summary of its Report and Order in MB Docket No. 02-277, and MM Docket Nos. 01-235, 01-317, and 00-244, regarding its broadcast ownership rules. That document adopted modifications to §§ 73.3555 and 73.3613 of the Commission's rules. Those modifications will be effective September 4, 2003. For the effective date of the approval of the information collection burdens associated with these revised sections, see the Notice published elsewhere in this separate part of the Federal Register.

Federal Communications Commission.
Marlene H. Dortch,
Secretary.

[FR Doc. 03-20746 Filed 8-13-03; 8:45 am]

BILLING CODE 6712-01-P